NUCLEAR REGULATORY COMMISSION

[Docket Nos. 50-338 and 50-339]

Virginia Electric and Power Company; North Anna Power Station, Units 1 and 2; Environmental Assessment and Finding of No Significant Impact

The U.S. Nuclear Regulatory Commission (NRC) is considering issuance of an amendment to Facility Operating License Nos. NPF-4 and NPF-7, issued to Virginia Electric and Power Company (the licensee), for operation of the North Anna Power Station, Units 1 and 2, located in Louisa County, Virginia.

Environmental Assessment

Identification of the Proposed Action

The proposed action would increase the limit on the fuel enrichment from the current limit of 4.3 weight percent U²³⁵ to a maximum of 4.6 weight percent U²³⁵, establish boron concentration and fuel storage restrictions for the Spent Fuel Pool (SFP), and eliminate the value of uncertainties in the calculation for Keff in the SFP criticality calculation. The proposed action is in accordance with the licensee's application for amendments dated September 27, 2000, as supplemented November 21 and December 18, 2000, and February 2, and March 2, 2001.

The Need for the Proposed Action

The proposed action to increase fuel enrichment will reduce the need for extended periods of reduced power operation at the end of each operating cycle and permit fuel discharge burnups more compatible with the current maximum rod burnup limit of 60,000 MWD/MTU. This action will help optimize fuel cycle costs while satisfying the safety limits. Currently, Technical Specification (TS) 5.3, “Reactor Core,” limits the use of reload fuel to a maximum enrichment of 4.3 weight percent U²³⁵. Thus, the proposed change to the TS was requested.

Environmental Impacts of the Proposed Action

The NRC has completed its evaluation of the proposed action and concludes that the storage and use of fuel enriched with U²³⁵ up to 4.6 weight percent at North Anna Power Station, Units 1 and 2, is acceptable. The safety considerations associated with higher enrichments have been evaluated by the staff, and the staff has concluded that such changes would not adversely affect plant safety. The proposed changes have no effect on the probability of any accident. There will be no change to the authorized power level. There is no change to the allowable maximum rod burnup limit of 60,000 MWD/MTU, already approved for North Anna Power Station, Units 1 and 2. As a result, there is no significant increase in individual or cumulative radiation exposure.

The environmental impacts of transportation resulting from the use of higher enrichment fuel and extended irradiation are discussed in the staff assessment entitled, “NRC Assessment of the Environmental Effects of Transportation Resulting from Extended Fuel Enrichment and Irradiation.” This assessment was published in the Federal Register on August 11, 1988 (53 FR 30355), as corrected on August 24, 1988 (53 FR 32322), in connection with the Shearon Harris Nuclear Power Plant, Unit 1, Environmental Assessment and Finding of No Significant Impact. As indicated therein, the environmental cost contribution of an increase in fuel enrichment of up to 5.0 weight percent U²³⁵ and irradiation limits up to 60,000 MWD/MTU are either unchanged, or may in fact be reduced from those summarized in Table S-4 as set forth in 10 CFR 51.52(c). Therefore, there are no significant radiological environmental impacts associated with the proposed action.

With regard to potential nonradiological impacts, the proposed changes involve systems located within the restricted area as defined in 10 CFR Part 20. The proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement—Operating License (FES-OL), dated April 1973 for the North Anna Power Station.

Agencies and Persons Consulted

In accordance with its stated policy, on March 22, 2001 the staff consulted with the Virginia State official, Mr. Les Foldesi of the Virginia Department of Health regarding the environmental impact of the proposed action. The State official had no comments.

Finding of No Significant Impact

On the basis of the environmental assessment, the NRC concludes that the proposed action will not have a significant effect on the quality of the human environment. Accordingly, the NRC has determined not to prepare an environmental impact statement for the proposed amendments.

For further details with respect to the proposed action, see the licensee's letter dated September 27, 2000, as supplemented November 21 and December 18, 2000, and February 2 and March 2, 2001. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland, this 19th day of April 2001.
For the Nuclear Regulatory Commission.
Stephen R. Monarque,
Project Manager, Section 1, Project Directorate II, Division of Licensing Project Management, Office of Nuclear Reactor Regulation.

[FR Doc. 01-10242 Filed 4-24-01; 8:45 am]

BILLING CODE 7590-01-P